DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date:

June 27, 2001—9:00 a.m.-5:00 p.m.

June 28, 2001—10:00 a.m.-4:00 p.m.

Place: Renaissance Hotel, 999 9th Street, NW., Washington, DC, (202) 898-9000.

Status: Open.

Purpose: At this meeting the Committee will hear presentations and hold discussions on several health data policy topics. On the first day an update from HHS has been scheduled on the implementation of the administrative simplification provisions of the Health Insurance Portability and Accountability Act of 1996 (HIPAA). The Committee also will be briefed by HHS staff on a number of additional data policy activities including quality of care for racial and ethnic minorities and the implementation of OMB federal data standards on race and ethnicity. The Committee will review reports in progress including the report from the Subcommittee on Populations on functional status data, and Subcommittees will hold working sessions in the afternoon. There will also be Subcommittee sessions early in the morning of the second day. Day two of the full Committee meeting will feature a briefing on the HHS Patient Safety Task Force, the National Quality Forum and the National Quality Report from the Institute of Medicine. The afternoon agenda begins with a briefing on the status of the Centers for Disease Control's National Electronic Data Surveillance System (NEDSS). The remainder of the afternoon's agenda will be devoted to Committee business including reports from the Subcommittees and planning future agendas.

Contact Person for More Information: Substantive program information as well as summaries of meetings and a roster of committee members may be obtained from Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/, where further information including an agenda will be posted when available.

Dated: May 30, 2001.
James Scanlon,
Director, Division of Data Policy, Office of the Assistant Secretary for Planning and Evaluation.

[FR Doc. 01-14057 Filed 6-4-01; 8:45 am]

BILLING CODE 4151-05-M